GENERAL SERVICES ADMINISTRATION

Women's Progress Commemoration Commission

AGENCY: General Services Administration.

ACTION: Meeting Notice.

SUMMARY: Notice is hereby given that the Women's Progress Commemoration Commission will hold an open meeting from 9:00 a.m. to 4:00 p.m. on Wednesday, Febraruy 28, 2001, at the U.S. Capitol 1116 Longworth House Office Building.

Purpose: The Commission will meet to discuss the results of the governors' submissions pertaining to identifying and commemorating Women's History sites.

FOR FURTHER INFORMATION CONTACT: Martha Davis (202) 501-0705, Assistant to the Associate Administrator for Communications, General Services Administration. Also, inquiries may be sent to martha.davis@gsa.gov.

Dated: January 12, 2001.
Beth Newburger,
Associate Administrator for Communications.

[FR Doc. 01-1912 Filed 1-22-01; 8:45 am]

BILLING CODE 6820-34-M